DEPARTMENT OF THE INTERIOR

Bureau of Land Management

[BLM_UT_FRN_MO4500183479]

Rescission and Termination of the Preparation of a Resource Management Plan for the Cedar City Field Office, Utah, and Associated Environmental Impact Statement

AGENCY: Bureau of Land Management, Interior.

ACTION: Notice of rescission and termination.

SUMMARY: The Bureau of Land Management (BLM) is announcing the rescission of the notice of intent (NOI) to prepare a resource management plan (RMP) for the Cedar City Field Office in southwestern Utah and the termination of the environmental impact statement (EIS) analyzing the potential impacts of long-term management of resources, activities, and uses within the planning area.

DATES: This rescission and termination take effect immediately.

FOR FURTHER INFORMATION CONTACT: Hayden Houston, BLM Color Country District Office Planning and Environmental Coordinator, at (435) 865-3011 or hhouston@blm.gov. Individuals in the United States who are deaf, deafblind, hard of hearing, or have a speech disability may dial 711 (TTY, TDD, or TeleBraille) to access telecommunications relay services for contacting Mr. Houston. Individuals outside the United States should use the relay services offered within their country to make international calls to the point-of-contact in the United States.

SUPPLEMENTARY INFORMATION: Pursuant to the National Environmental Policy Act of 1969, as amended, and the Federal Land Policy and Management Act of 1976, as amended, the BLM published on September 10, 2010, its NOI to prepare a RMP and associated EIS (75 FR 55344). The RMP/EIS would have analyzed the impacts of long-term management of resources, activities, and uses across 2.1 million acres of public land in the BLM Cedar City Field Office. Due to the length of time since the public scoping process was completed and the changed circumstances and resource management pressures that have occurred in the planning area during that time, the BLM is rescinding its NOI to prepare a RMP and is terminating the EIS announced in the Federal Register at 75 FR 55344.

(Authority: 42 U.S.C. 4332, 4336a; 43 CFR 46.435(a))

Matthew A. Preston,
Acting BLM Utah State Director.

[FR Doc. 2025-10438 Filed 6-9-25; 8:45 am]

BILLING CODE 4331-25-P